ADVISORY COUNCIL ON HISTORIC PRESERVATION

Final Amendment to the Army Alternate Procedures

AGENCY: Advisory Council on Historic Preservation.

ACTION: Notice of adoption of amendment to the Army alternate procedures.

SUMMARY: On June 30, 2003, the Advisory Council on Historic Preservation (“ACHP”) adopted an amendment to the Army Alternate Procedures (“AAP”) setting a process for technical and administrative amendments to the AAP.

DATES: The approved amendment went into effect on June 30, 2003.

FOR FURTHER INFORMATION CONTACT: Mr. David Berwick, Army Program Manager, Advisory Council on Historic Preservation, 202-606-8531.

SUPPLEMENTARY INFORMATION: A notice of intent to amend the AAP was published in the Federal Register on Friday, May 16, 2003 (68 FR 95). No comments were received from the general public during the 30-day comment period. Accordingly, no changes were made to the original proposed language.

The approved amendment will allow the Chairman of the ACHP to approve administrative and technical amendments to the AAP:

7.1(d) Upon request by Headquarters, Department of the Army, the Council may adopt technical and/or administrative amendments to the Army Alternate Procedures. Such amendments will take effect upon approval by the Council's Chairman. The Council shall publish in the Federal Register a notice of such amendment within 30 days after their approval. Technical and administrative amendments shall not modify the role of consulting parties in the Army Alternate Procedures.

Authority: 36 CFR 800.14(a)

Dated: July 7, 2003.
Sharon Conway,
Acting Executive Director.

[FR Doc. 03-17544 Filed 7-10-03; 8:45 am]

BILLING CODE 4310-10-M